FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735

Executive Order 12612, Federalism

This rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground *Elevation in feet (NGVD) +Elevation in feet (NAVD)
CALIFORNIA
Davis (City), Yolo County, (FEMA Docket No. B-7427)
North Davis Overflow:
At Union Pacific Railroad Bridge (confluence with Union Pacific Railroad Drain) | *42
Approximately 950 feet upstream of confluence with Union Pacific Railroad Drain | *43
Union Pacific Railroad Drain:
At Union Pacific Railroad Bridge (confluence with North Davis Overflow) | *42
Approximately 340 feet downstream of Covell Boulevard | *43
Maps are available for inspection at City Hall, 23 Russell Boulevard, Davis, California.
———
Lafayette (City), Contra Costa County, (FEMA Docket No. B-7427)
Reliez Creek:
Approximately 60 feet upstream of Old Tunnel Road | *252
Approximately 110 feet downstream of Quandt Road | *352
Approximately 160 feet upstream of Pleasant Hill Road | *368
Reliez Creek Overflow:
Along Circle Road form its confluence with Riliez Creek to approximately 300 feet southeast of Ortega Avenue | *279
Maps are available for inspection at Lafayette Planning Office, 3675 Mt. Diablo Street, Lafayette, California.
———
Walnut Creek (City), Contra Costa County, (FEMA Docket No. B-7416)
East Fork Grayson Creek:
Approximately 280 feet upstream of Oak Park Boulevard in (City of Pleasant Hill) | *73
Approximately 150 feet downstream of Sunnyvale Avenue | *83
Eccleston Avenue Tributary:
At confluence with East Fork Grayson Creek | *80
Just downstream of Putnam Road | *87
Maps are available for inspection at the Community Development Department, 1666 North Main Street, Walnut Creek, California.
———
Yolo County (Unincorporated Areas), (FEMA Docket No. B-7427)
North Davis Overflow:
At Union Pacific Railroad Bridge (confluence with Union Pacific Railroad Drain) | *42
At Highway 101 A and Union Pacific Railroad Bridge Over North Davis Drain | *46
Union Pacific Railroad Drain:
At Union Pacific Railroad Bridge (confluence with North Davis Overflow) | *42
Maps are available for inspection at City Hall, 292 West Beamer Street, Woodland, California.
HAWAII
Kauai County (Unincorporated Areas), (FEMA Docket No. B-7424)
Hanalei River:
Approximately 1,300 feet upstream of the confluence with Hanalei Bay | *12
At Kuhio Highway (State Route 56) | *16
Approximately 6,000 feet upstream of the southern end of USFWS Pond D | *38
Maps are available for inspection at the Department of Public Works, Moikeha Building, 4444 Rice Street, Suite 175, Lihue, Hawaii.
IOWA
Johnston (City), Polk County, (FEMA Docket No. B-7310)
Beaver Creek:
Approximately 1,550 feet above its confluence with the Des Moines River | *805
At NW 70th Avenue | *824
Maps are available for inspection at City Hall, 6221 Merle Hay Road, Johnston, Iowa.
———
Urbandale (City), Dallas and Polk Counties, (FEMA Docket No. B-7310 and 7242)
Beaver Creek:
Approximately 1,000 feet upstream of Merle Hay Road | *811
Approximately 3,600 feet upstream of Merle Hay Road | *812
Walnut Creek:
Approximately 1,400 feet downstream of the 200th Street Bridge | *893
Approximately 360 feet upstream of the 200th Street Bridge | *896
Maps are available for inspection at the Community Development Department of Public Works, City Hall, 3600 86th Street, Urbandale, Iowa.
LOUISIANA
Tickfaw (Village), Tangipahoa Parish, (FEMA Docket No. B-7310)
Ponchatoula Creek:
Approximately 2,950 feet downstream of Highway 442 | *60
At Niccio Road | *65
Ponchatoula Creek Tributary 1:
Approximately 1,100 feet downstream of the Illinois Central Gulf Railroad | *57
Approximately 3,000 feet upstream of State Highway 442 | *63
Ponchatoula Creek Tributary 2:
Approximately 1,800 feet downstream of Chapel Road | *60
At Chapel Road | *61
Maps are available for inspection at Village Hall, 50081 Highway 51, Tickfaw, Louisiana.
———
Tangipahoa Parish (Unincorporated Areas), (FEMA Docket No. B-7262 and 7310)
Ponchatoula Creek:
Upstream of U.S. Highway 51 bridge | *17
Upstream of New Genessee Road | *57
At Old Genessee Road | *54
Approximately 1,100 feet from confluence with Ponchatoula Creek Tributary 2 | *60
Yellow Water River Canal:
Downstream of U.S. Highway 190 bridge | *38
Approximately 1,600 feet upstream of Ward Line Road | *46
Ponchatoula Creek Tributary 1:
At confluence with Ponchatoula Creek | *55
Approximately 3,300 feet upstream from confluence with Ponchatoula Creek | *57
Ponchatoula Creek Tributary 2:
At confluence with Ponchatoula Creek | *58
Approximately 2,200 feet upstream from confluence with Ponchatoula Creek | *60
Maps are available for inspection at the Office of Building Permits, 15481 Club Delux Road, Hammond, Louisiana.
MISSOURI
Greene County (Unincorporated Areas), (FEMA Docket No. B-7424)
South Creek:
Approximately 0.53 miles (2,800 feet) upstream of County Road 160 | *1,193
Approximately 1.16 miles (6125 feet) upstream of County Road 160 | *1,205
Wilson Creek:
Approximately 740 feet downstream of confluence with North Branch Wilsons Creek | *1,198
Approximately 0.69 miles (3650 feet) upstream of the U.S. Highway 160 Bypass | *1,206
South Branch:
At confluence with South Creek | *1,169
Just downstream of Farm Road 141(Cox Avenue) | *1,238
Ward Branch:
Approximately 130 feet downstream of confluence with Yarbarough Creek | *1,176
Approximately 350 feet upstream of Holland Avenue | *1,207
Mount Pleasant Branch:
Just downstream of U.S. Highway 160 | *1,182
Approximately 200 feet upstream of U.S. Highway 160 | *1,185
Farmer Branch:
At its confluence with James River | *1,133
Just downstream of Farm Road 194 | *1,190
Pea Ridge Creek:
At confluence with South Dry Sac River | *1,113
Just downstream of Farm Road 151 | *1,175
Dickerson Branch:
At confluence with Pea Ridge Creek | *1,156
South Dry Sac River:
Approximately 300 feet upstream of its confluence with Little Sal River | *1,091
Approximately 670 feet upstream of Farm Road 151 | *1,138
South Dry Sac River Tributary:
Approximately 800 feet upstream of its confluence with South Dry Sac River | *1,200
Approximately 1,620 feet upstream of Farm Road 167 | *1,253
Ward Branch Tributary:
At its confluence with Ward Branch | *1,118
Approximately 260 feet upstream of Weaver Road (Farm Road 178) | *1,194
Wilson Creek Tributary:
At its confluence with Wilsons Creek | *1,145
Approximately 300 feet upstream of Highway M (Republic Road) | *1,241
Wilson Creek Unnamed Tributary:
At its confluence with Wilson Creek | *1,182
Just downstream of the San Francisco Railway | *1,259
Workman Branch:
At its confluence with Ward Branch | *1,138
Just upstream of Farm Road 145 | *1,195
Yarborough Creek:
Approximately 1,350 feet upstream of confluence with Ward Branch | *1,204
Approximately 800 feet upstream of U.S. Highway 160 | *1,233
Maps are available for inspection at the Greene County Resource Management Planning and Zoning Section, 833 Boonville Avenue, Springfield, Missouri.
———
Steelville (City), Crawford County, (FEMA Docket No. B-7417)
Whittenburg Creek:
Approximately 600 feet downstream of County Road 545 | *726
Just downstream of Highway 8 | *732
Yadkin Creek:
At confluence with Wittenburg Creek | *731
Approximately 5,000 feet upstream of Spring Street | *785
Maps are available for inspection at City Hall, 103 Brickey Street, Steeville, Missouri.
OREGON
Salem (City), Marin County, (FEMA Docket No. B-7424)
Shelton Ditch:
At confluence with Pringle Creek | *146
Approximately 100 feet upstream of Diversion Structure at Mill Creek | *191
Pringle Creek:
At confluence with Willamette River (location shown as confluence of Shelton Ditch with Willamette River on effective Firm) | *143
At confluence of Pringle Creek and East Fork Pringle Creek | *174
Middle Fork Pringle Creek:
At confluence of Pringle Creek and East Fork Pringle Creek | *174
Approximately 150 feet downstream of Interstate 5 | *219
East Fork Pringle Creek:
At confluence with Pringle Creek and Middle Fork Pringle Creek | *174
Approximately 150 feet downstream of Interstate 5 | *219
Mill Creek B:
At confluence with Williamette River | *141
Just upstream of Missouri Street | *199
Approximately 3,000 feet upstream of Penitentiary Annex Road | *254
Maps are available for inspection at the City of Salem, 555 Liberty Street, SE, Salem, Oregon.
SOUTH DAKOTA
Spearfish (City), Lawrence County, (FEMA Docket No. B-7424)
West Chipmunk Gulch:
At confluence with Spearfish Creek | *3,574
At 60 feet upstream of West Oliver Street | *3,663
Maps are available for inspection at the Department of Public Works, City Hall, 625 Fifth Street, Spearfish, South Dakota.
———
Hill City (City), Pennington County, (FEMA Docket No. B-7424)
Spring Creek:
At approximately 50 feet upstream of Hill City power line located at 2,000 feet upstream of U.S. Highway 385 and 16 | *4,937
Approximately 1,400 feet upstream of Popular Street and Bishop Mountain Avenue Intersection | *5,013
Newton Fork Creek:
At Museum Drive | *4,967
Approximately 1,900 feet upstream of Museum Drive | *4,981
Maps are available for inspection at City Hall, 324 Main Street, Hill City, South Dakota.
TEXAS
Tom Green County (Unincorporated Areas), (FEMA Docket No. B-7310)
Red Arroyo:
Just downstream of eastbound Route 67 | *1,888
Approximately 1,300 feet upstream of Earthen Lake Dam | *1,987
Stream RA-1:
At confluence with Red Arroyo | *1,897
Just downstream of O.C. Fisher Dam spillway | *1,928
Stream RA-2:
At confluence with Red Arroyo | *1,898
Just upstream of Arden Road | *1,941
Goodfellow Draw:
120 feet downstream of Stock Tank Dam | *1,805
790 feet upstream of Stock Tank Dam | *1,810
Maps are available for inspection at the Public Health Building, Two City Hall Plaza, San Angelo, Texas.
WASHINGTON
Okanogan County Unincorporated Areas, (FEMA Docket No. B-7427)
Conconully Reservior:
At Conconually Reservior | *2,286
Maps are available for inspection at City Hall, 123 North Fifth Street, Okanogan, Washington.
———
Prescott (City), Walla Walla County, (FEMA Docket No. B-7416)
Whetstone Gulch Overflow:
Approximately 100 feet downstream of A Street | *1,036
Approximately 40 feet upstream of Fourth Street | *1,040
Mill Slough:
Just upstream of C Street | *1,038
Approximately 2,950 feet upstream of C Street | *1,049
Mill Slough Overflow:
Just upstream of G Street | *1,043
Approximately 1,140 feet upstream of G Street | *1,051
Maps are available for inspection at City Hall, 110 D Street, Prescott, Washington.
———
North Bonneville (City), Skamania County, (FEMA Docket No. B-7266)
Hamilton Creek:
Just upstream of confluence with the Columbia River | *36.0
Approximately 100 feet upstream of Evergreen Drive | *47.0
Columbia River:
Approximately 1.6 miles upstream of confluence with Hamilton Creek | *37.6
Approximately 2 miles upstream of confluence with Hamilton Creek | *38.9
Greenleaf Creek:
Just upstream of confluence with Hamilton Creek | *47.0
Approximately 550 feet upstream of Moffet Hot Springs Road | *58.0
Maps are available for inspection at the City of North Bonneville Clerk/Treasure's Office, P.O. Box 7, North Bonneville, Washington.
———
Conconully (Town), Okanogan County, (FEMA Docket No. B-7427)
Conconully Reservior:
At Conconully Reservior | *2,286
Maps are available for inspection at the Town Office, 21 North Main Street, Conconully, Washington.
———
Walla Walla County (Unincorporated Areas), (FEMA Docket No. B-7416)
Mill Slough:
Just upstream of C Street | *1,038
Just downstream of Hart Road | *1,062
Whetstone Gulch Overflow:
Approximately 40 feet upstream of Fourth Street | *1,040
Approximately 1,530 feet upstream of Fourth Street | *1,048
Maps are available for inspection at the Walla Walla County Regional Planning Office, 310 West Poplar Street, Suite 001, Walla Walla, Washington.
———
Anacortes (City), Skagit County, (FEMA Docket No. B-7425)
Burrows Bay:
Along shoreline to Fidalgo Head including Burrows Pass | *7
Guemes Channel:
Along shoreline from Shannon Point to Fidalgo Bay | *9
Fidalgo Bay:
Along shoreline to Guemes Channel | *7
Rosario Strait:
Along shoreline from Fidalgo Head to Shannon Point | *9
Maps are available for inspection at City Hall, 904 6th Street, Anacortes, Washington.
WYOMING
Dubois (Town), Freemont County, (FEMA Docket No. B-7425)
Wind River:
Approximately 3,380 feet upstream of State Highway 26 | +6,882
Approximately 450 feet upstream of Soda Springs Drive | +6,983
Horse Creek:
At confluence with Wind River | +6,912
Approximately 1,950 feet upstream of Clendenning Street | +6,953
Maps are available for inspection at Town Hall, 712 Meckern Street, Dubois Wyoming.
———
Freemont County (Unincorporated Areas), (FEMA Docket No. B-7425)
Wind River:
Approximately 2,400 feet upstream of State Highway 26 | +6,878
Approximately 2,200 feet upstream of Soda Springs Drive | +6,993
Horse Creek:
Approximately 2,000 feet upstream of Clendenning Street | +6,954
Approximately 1,950 feet upstream of Clending Street | +6,955
Maps are available for inspection at the Planning Department, 450 North 2nd Street, Room 360, Lander, Wyoming.

Source of flooding and location | #Depth in feet above ground *Elevation in feet (NGVD) +Elevation in feet (NAVD) | Communities affected
COLORADO
Boulder County and Incorporated Areas, (FEMA Docket No. B-7424)
Bullhead Gulch:
At confluence with Boulder Creek | 4,991 | Boulder County (Uninc. Areas).
Approximately 50 feet downstream of Burlington Northern Railroad | *5,360
Rock Creek:
Approximately 3,500 feet downstream of Burlington Northern Railroad | *5,371 | Boulder County (Uninc. Areas).
Approximately 9,700 feet upstream of McCaslin Boulevard | *5,639
Prince Tributary East Branch:
At confluence with Boulevard Gulch | *5,026 | Boulder County (Uninc. Areas).
At divergrence of East/West branches | *5,056
Coal Creek:
Approximately 1,650 feet downstream of Denver Boulder Turnpike | *5,439 | Boulder County (Uninc. Areas) Town of Superior and City of Louisville.
Approximately 5,200 feet upstream of Community Ditch Diversion | *5,689
Prince Tributary West Branch:
At confluence with Bullhead Gulch | *5,036 | Boulder County (Uninc. Areas).
Approximately 5,750 feet upstream of Isabelle Road | *5,178 |
ADDRESSES
Boulder County (Unincorporated Areas)
Maps are available for inspection at Department of Public Works, 1739 Broadway, Suite 300, P.O. Box 791, Boulder, Colorado.
City of Louisville:
Maps are available for inspection at the City of Louisville, 749 Main Street, Louisville, Colorado.
Town of Superior:
Maps are available for inspection at the Town of Superior, 124 East Coal Creek Drive, Superior, Colorado.
IDAHO
Ada County and Incorporated Areas, (FEMA Docket No. B-7404)
Boise River:
Approximately 5,800 feet downstream of Star Road | +2,458 | Ada County (Uninc. Areas), City of Garden City, City of Boise, and City of Eagle.
Approximately 50 feet upstream of Eagle Road | +2,559
Approximately 3,150 feet upstream of South Eckert Road | +2,764
Loggers Creek (Side Channel):
Approximately 925 feet upstream of Broadway Avenue | +2,703 | Ada County (Uninc. Areas), City of Garden City, City of Boise, and City of Eagle.
Approximately 4,450 feet upstream of Park Center Boulevard (at upstream confluence with Boise River) | +2,736
Overflow Channel Boise River:
At confluence with Boise River | +2,576 | Ada County (Uninc. Areas), City of Garden City, City of Boise, and City of Eagle.
At confluence with South Channel Boise River Eagle Island | +2,585
South Channel Boise River:
Approximately 4,675 feet downstream of Linder Road (at downstream confluence with Boise River) | +2,510 | Ada County (Uninc. Areas), City of Garden City, City of Boise, and City of Eagle.
At upstream confluence with Boise River | +2,593 |
ADDRESSES
Ada County (Unincorporated Areas)
Maps are available for inspection at County Engineer's Office, 650 Main Street, 2nd floor, Boise, Idaho.
City of Boise:
Maps are available for inspection at the Community Planning and Development Office, 150 North Capitol Boulevard, 2nd floor, Boise, Idaho.
City of Eagle:
Maps are available for inspection at 310 East State Street, Eagle, Idaho.
City of Garden City:
Maps are available for inspection at City Hall, 201 East 50th Street, Garden City, Idaho.
KANSAS
Hamilton County and Incorporated Areas, (FEMA Docket No.# B-7427)
Arkansas River:
Approximately 11,000 feet downstream of State Highway 27 | *3,211 | Hamilton County (Uninc. Areas).
Approximately 2.6 miles upstream of State Highway 27 | *3,240
Syracuse Creek:
Just upstream of the Atchinson, Topeka, Santa Fe Railroad and U.S. Highway 50 | *3,243 | Hamilton County (Uninc. Areas).
Approximately 2,100 feet upstream of State Highway 27 (U.S. Highway 207) | *3,262
Syracuse Creek Overflow:
Approximately 500 feet southeast of the Interstate of State Highway 27 and G Avenue | *3,244 | City of Syracuse.
ADDRESSES
Hamilton County (Unincorporated Areas)
Maps are available for inspection at Hamilton County Superintendents Office, 219 North Main Street, Syracuse, Kansas.
City of Syracuse:
Maps are available for inspection at City Hall, 109 North Main Street, Syracuse, Kansas.
LOUISIANA
West Baton Rouge Parish and Incorporated Areas, (FEMA Docket No. B-7310)
Lateral 1-C:
At confluence with the Gulf Intracoastal Waterway | *9 | Parish (Uninc. Areas) and City of Port Allen.
At Intersection with Interstate 10 | *10
At Intersection with State Highway 986 | *16
Oaks Avenue Canal:
At the confluence with the Gulf Intracoastal Waterway | *10 | Parish (Uninc. Areas) and City of Port Allen.
Just upstream of LeBlanc Road | *19
Oaks Avenue Canal Tributary No. 1:
At the confluence with Oaks Avenue Canal | *10 | Parish (Uninc. Areas) and City of Port Allen.
Just upstream of South Jefferson Avenue | *25
ADDRESSES
West Baton Rouge Parish (Unincorporated Areas)
Maps are available for inspection at the Parish Zoning Office, 880 North Alexander, Port Allen, Louisiana.
City of Port Allen:
Maps are available for inspection at City Hall, 750 N. Jefferson Avenue, Port Allen, Louisiana.
MISSOURI
St. Louis County and Incorporated Areas, (FEMA Docket No. B-7310)
Grand Glaize Creek:
Approximately 400 feet upstream of Dougherty Ferry Road | 442 | St. Louis County (Uninc. Areas) & City of Valley Park.
Approximately 3,000 feet upstream of Dougherty Ferry Road | *446
Monsanto Sunswept Creek:
Approximately 950 feet downstream of Private Bridge | *532 | City of Creve Coeur.
Just upstream of Chilton Lane | *561
Des Peres Creek:
At confluence with Sugar Creek | *450 | City of Des Peres.
Approximately 450 feet upstream of Hospital Drive | *459
Sugar Creek:
Approximately 1,150 feet downstream of Old Dougherty Ferry Road | *446 | City of Des Peres.
Just upstream of Interstate 270 | *462
Deer Creek:
Just upstream of Lindbergh Boulevard | *524 | City of Frontenac.
Approximately 3,300 feet upstream of Spoede Road | *542
Monsanto Sunswept Creek:
Approximately 400 feet downstream of Glen Abbey Road | *528 | City of Frontenac.
Approximately 180 feet upstream of Glen Abbey Road | *528
Sugar Creek:
Just upstream of Interstate 270 | *462 | City of Kirkwood.
Approximately 150 feet upstream of Interstate 270 | *462
Deer Creek:
Approximately 3,300 feet upstream of Spoede Road | *542 | Village of Westwood.
Approximately 4,500 feet upstream of Spoede Road | *549
ADDRESSES
St. Louis County (Unincorporated Areas)
Maps are available for inspection at the Department of Planning, 41 South Central Avenue, Clayton, Missouri.
City of Creve Coeur
Maps are available for inspection at City Hall, 300 North New Ballas Road, Creve Coeur, Missouri.
City of Des Peres
Maps are available for inspection at City Hall, 12325 Manchester Road, Des Peres, Missouri.
City of Frontenac
Maps are available for inspection at City Hall, 10555 Clayton Road, Frontenac, Missouri.
City of Kirkwood
Maps are available for inspection at City Hall, 139 South Kirkwood Road, Kirkwood, Missouri.
City of Valley Park
Maps are available for inspection at City Hall, 320 Benton Street, Valley Park, Missouri.
Village of Westwood
Maps are available for inspection at 9 Westwood Country Club Ground Road, Westwood, Missouri.
NEVADA
Washoe County and Incorporated Areas, (FEMA Docket No. B-7310)
Golden Valley Wash:
Approximately 2,180 feet upstream of Tholl Drive | *4,981 | Washoe County (Uninc. Areas), and City of Sparks.
Approximately 2,700 feet upstream of Spearhead Way | *5,176
Hidden Valley Wash:
Approximately 1,800 feet upstream of its confluence with Steamboat Creek | *4,442
Approximately 3,420 feet upstream of Parkway Drive | *4,647
Sun Valley Wash:
At the Sun Valley Flood Control Dentention Dam | *4,548 | Washoe County (Uninc. Areas), and City of Sparks.
At East 7th Avenue | *4,725
Sun Valley Wash Split Flow:
At convergence with Sun Valley Wash | *4,647
At divergence from Sun Valley Wash | *4,695
ADDRESSES
Washoe County (Unincorporated Areas)
Maps are available for inspection at the County Engineering Department, 1001 E. 9th Street, Reno, Nevada.
City of Sparks:
Maps are available for inspection at the Engineering Department, 431 Prater Way, Sparks, Nevada.
OKLAHOMA
Oklahoma County and Incorporated Areas, (FEMA Docket No. B-7404)
Biddy Creek:
Approximately 3,200 feet upstream of confluence with Deer Creek | *1,054 | Oklahoma County (Uninc. Areas), City of Edmond, City of Harrah, Town of Lake Aluma, Town of Luther, City of Midwest City, City of Oklahoma City, City of Spencer, and City of the Village.
At Oklahoma-Canadian County Boundary | *1,103
Bloody Rush Creek:
Just upstream of Portland Avenue | *1,014
Just upstream of Rockwell Avenue | *1,096
Chisholm Creek:
At Oklahoma-Logan County Boundary | *1,016
At West Coffee Creek Road | *1,035
Approximately 150 feet upstream of West Coffee Creek Road | *1,037
At Hefner Road | *1,167
At Northwest Britton Road | *1,192
Coon Creek:
Approximately 50 feet upstream of Northeast 192nd Street | *919
Approximately 1,550 feet upstream of Triple X Road | *922
Just downstream of Northeast 206th Street | *929
Just upstream of Northeast 206th Street | *932
At confluence with Coon Creek | *965
Just downstreasm of Waterloo Road | *970
Coon Creek Tributary:
Approximately 70 feet upstream of Choctaw Road | *1,007
Crutcho Creek:
Approximately 2,000 feet upstream of North Midwest Boulevard | *1,149
Approximately 700 feet downstream of Northeast 36th Street | **1,158
Crutcho Creek Tributary C:
Just downstream of Sooner Road | *1,217
Approximately 450 feet upstream of Epperly Drive | *1,246
Crutcho Creek Tributary C-1:
Approximately 400 feet upstream of confluence with Crutcho Creek C | *1,226
Just downstream of Southeast 59th Street | *1,233
Deep Fork:
Just upstream of Northeast 192nd Street | *902
Approximately 1,800 feet upstream of Northeast 192nd Street | *903
Deep Fork Tributary 11:
Approximately 1,300 feet downstream of Northeast 50th Street | *1,089
Just upstream of Northeast 50th Street | *1,104
Deer Creek:
At Waterloo Road | *1,009
Approximately 600 feet downstream of Northwest 164th Street | *1,072
Dorf Creek:
Approximately 4,900 feet upstream of Meridian Avenue | *1,040
Approximately 1,000 feet upstream of Coffee Creek Road | *1,095
North Canadian River:
At intersection of North Sooner Road and Boundary Northeast 23rd Street | *1,157
North Canadian Tributary:
Approximately 1,750 feet downstream of Northeast 10th Street | *1,090
Just downstream of Reno Avenue | *1,110
Approximately 150 feet upstream of Reno Avenue | *1,114
Approximately 200 feet downstream of Triple XXX Road | *1,167
North Canadian Tributary 2 or Tributary 1:
Approximately 1,050 feet downstream of Reno Avenue | *1,104
Just upstream of Reno Road | *1,110
North Canadian Tributary 2 or Tributary 2:
Approximately 250 feet downstream of Southeast 15th Street | *1,132
North Canadian Tributary 3 or Tributary 1:
At confluence with North Canadian Tributary 1 | *1,118
Approximately 3,700 feet upstream of Peebly Road | *1,141
Pond Creek (previously known as Chisholm Creek Tributary 3):
Approximately 4,000 feet downstream of Danforth Avenue | None
Just downstream of Danforth Avenue | None
Soldier Creek Tributary to Deer Creek:
At confluence with Deer Creek | *1,056
At County Line Road | *1,074
Walnut Creek:
At confluence with Deer Creek | *1,042
Approximately 150 feet downstream of Northwest 164th Street | *1,068
Just upstream of Northwest 164th Street | *1,072
Walnut Creek Tributary 1:
Approximately 3,400 feet upstream of confluence with Walnut Creek | *1,049
At Northwest 164th Street | *1,086
Just upstream of Northwest 164th Street | *1,092
West Captain Creek Tributary:
At Oklahoma-Lincoln County Boundary | *950
Approximately 2,500 feet upstream of Northeast 93rd Street | *1,051
West Captain Creek Tributary 2:
At confluence with West Captain Creek Tributary | *956
Approximately 3,000 feet upstream of Northeast 93rd Street | *1,010
West Captain Creek Tributary 3:
At confluence with West Captain Creek Tributary | *989
Approximately 2,000 feet upstream of Northeast 93rd Street | *1,021
Whistler Creek:
Approximately 2,900 feet upstream of confluence with Deer Creek | *1,029
Approximately 2,800 feet downstream of MacArthur Boulevard | *1,069
ADDRESSES
Oklahoma County (Unincorporated Areas)
Maps are available for inspection at the Oklahoma County Engineer Office, 320 Robert A. Kerr Avenue, Suite 101, Oklahoma City, Oklahoma.
City of Edmond:
Maps are available for inspection at 100 East First Street, Edmond, Oklahoma.
City of Harrah:
Maps are available for inspection at 1900 Church Avenue, Harrah, Oklahoma.
Town of Lake Aluma:
Maps are available for inspection at 104 Lake Aluma Drive, Lake Aluma, Oklahoma.
Town of Luther:
Maps are available for inspection at 119 South Main Street, Luther, Oklahoma.
City of Midwest City:
Maps are available for inspection at 100 North Midwest Boulevard, Midwest City, Oklahoma.
City of Oklahoma City:
Maps are available for inspection at 420 West Main Street, Oklahoma City, Oklahoma.
City of Spencer:
Maps are available for inspection at 8200 Northeast 36th Street, Spencer, Oklahoma.
City of the Village:
Maps are available for inspection at 2304 Manchester Drive, The Village, Oklahoma.
TEXAS
Bexar County and Incorporated Areas (FEMA Docket No. B-7414)
Culbera Creek:
At confluence with Leon Creek | *773 | Bexar County (Unic. Areas) City of San Antonio.
At Culebra Road | *849 |
Just downstream of Galm Road | *952 |
Culbera Creek Split No. 1:
At confluence with Culbera Creek | *796 | Bexar County (Unic. Areas).
Approximately 830 feet upstream of Tezel Road | *808 | City of San Antonio.
Culbera Creek Split No. 2:
At confluence with Culbera Creek Approximately 200 feet upstream of Tezel Road | *810 | Bexar County (Unic. Areas).
Approximately 3,620 feet upstream of Timberwilde | *827 |
Culbera Creek Split No. 3:
At confluence with Culbera Creek (Approximately 1,530 feet downstream of Charles W. Anderson Loop) | *853 | Bexar County (Unic. Areas), City of San Antonio.
At Charles W. Anderson Loop | *865 |
French Creek:
Approximately 1,500 feet upstream of Clyde Dent | *806 | Bexar County (Unic. Areas), City of San Antonio.
Approximately 1,040 feet downstream of Mainline Drive | *832 |
At Charles W. Anderson Drive | *936 |
Approximately 800 feet upstream of Circle North Trail | *980 |
Helotes Creek (at San Antonio):
At confluence with Culbera Creek | *853 | Bexar County (Unic. Areas), City of San Antonio.
At Leslie Road | *915 |
Approximately 320 feet upstream of Bandera Road | *997 |
Hueber Creek:
Approximately 220 feet upstream of Ingram Road | *765 | Bexar County (Unic. Areas), City of San Antonio & City of Leon Valley.
At Huebner Road | *841 |
Approximately 320 feet upstream of DeZavale Road | *966 |
Huesta Creek:
At confluence with Leon Creek | *915 | Bexar County (Unic. Areas), City of San Antonio.
Approximately 2,050 feet upstream of Charles Anderson Drive | *1,006 |
Leon Creek:
At U.S. Highway 90 | *693 | Bexar County (Unic. Areas), City of San Antonio.
At U.S. 161 | *736 |
Approximately 2,450 feet downstream of Route 16 | *824 |
Approximately 1,100 feet upstream of Charles W. Anderson Drive | *993
Leon Creek Overflow:
Approximately 1,125 feet downstream of West Prue Road | *888 | Bexar County (Unic. Areas), City of San Antonio.
At Babcock Road | *918 |
Approximately 60 feet downstream of West Hausman Road | *953 |
Maverick Creek (Babcock Tributary):
At confluence of Leon Creek | *916 | Bexar County (Unic. Areas), City of San Antonio.
At Seco Creek Street | *1,014 |
Approximately 1,750 feet upstream of Babcock Road | *1,137 |
Tributary B to Culebra Creek:
At confuence with Culebra Creek | *920 | Bexar County (Unic. Areas).
Approximately 50 feet downstream of Galm Road | *950 |
ADDRESSES
Bexar County (Unincorporated Areas)
Maps are available for inspection at the Bexar County Works Department, 233 N. Pecos, Suite 420, San Antonio, Texas.
City of Leon Valley:
Maps are available for inspection at the Leon Velley City Hall, 6400 El Verde Road, San Antonio, Texas.
City of San Antonio:
Maps are available for inspection at the Municipal Plaza, 114 W. Commerce, Seventh Floor, San Antonio, Texas.
Lubbock County and Incorporated Areas, (FEMA Docket No. B-7418)
Playa System C2:
Near intersection of Erskin Street and Knoxville Avenue (Playa 53) | 3,221 | City of Lubbock.
Playa System C3:
At confluence with North Fork Double Mountain Fork of the Brazos River | *3,146 | City of Lubbock.
Near intersection of Clovis Road and Baylor Street (at Playa System C1) | *3,211 |
Playa System D1:
At confluence with North Fork Double Mountain Fork of The Brazos River | *3,128 | City of Lubbock.
Near intersection of 25th Street and Geneva Avenue (Tech Terrace Playa) | *3,212 |
Near intersection of Kewanee Avenue and 32nd Street (Playa 40) | *3,261 |
Playa System D2:
At Maxey Park (Playa 43) | *3,226 | City of Lubbock.
Near intersection of Levelland Highway and Utica Drive (Playa 45) | *3,242 |
Playa System D3:
At confluence with North Fork Double Mountain Fork of The Brazos River Near 26th Street and Globe Avenue (at Playa System D1) | *3,142 *3,185 | City of Lubbock.
Playa System E1:
Just upstream of confluence with North Fork Double Mountain Fork of the Brazos River | *3,094 | Lubbock County (Uninc. Areas), City of Lubbock.
Near intersection of Milwaukee Avenue and County Road 6900 (Playa 39) | *3,269 |
Playa System E2:
Near intersection of Elgin Avenue and Loop 289 (at Playa System E1) | *3,223 | City of Lubbock.
Northwest of intersection of 66th Street and Elgin Avenue | *3,224 |
Playa System 3E:
Near Brownfield Highway and Highway 62/82 split (at Playa System E1 Upper) | *3,276 | City of Lubbock.
Near intersection of 59th Street and Upland Avenue (Playa 101) | *3,281 |
Playa System E4 (A, B, & C):
Just upstream of Route 327 | *3,267 | City of Lubbock.
Northwest of the intersection of 82nd Street and Iola Avenue | *3,283 |
Playa System E5 & E7:
Near intersection of Dowden Avenue and Brownfield Highway | *3,289 | Lubbock County (Uninc. Areas), Town of Wolfforth.
Near intersection of 82nd Street and Hartland Avenue | *3,307 |
Playa System E1 Upper & E8:
Northwest of intersection of Frankford Avenue and Highway 82/62 (Playa 37) | *3,267 | Lubbock County (Uninc. Areas), City of Lubbock.
Southeast of intersection of 66th Street and Inler Avenue (Playa 138) | *3,302 |
Playa System E9:
Southwest of intersection of 66th Street and Quincy Avenue (at Playa System E 48B) | *3,272 | City of Lubbock.
Near intersection of Homestead Avenue and 82nd Avenue (Playa 32) | *3,289 |
Playa System E12 & E13 (Western Area):
Southeast of intersection of 34th Street and Hartland Avenue | *3,317 | Lubbock County (Uninc. Areas).
Near intersection of Inler Avenue and 66th Street | *3,294 |
Playa System F:
Near intersection of 50th Street and Avenue A (Playa 161) | *3,182 | City of Lubbock.
Near intersection of IH-27 and Highway 289 | *3,184 |
Approximately 1 mile south of Highway 289 and IH-27 | *3,220 |
Playa System G1, G2, G3, & G4:
Near intersection of 98th Street and University Avenue (Playa 85) | *3,204 | City of Lubbock.
Near intersection of 73rd Street and Bangor Avenue (Playa 30) | *3,260 |
Playa System G5:
Near intersection of 98th Street and Milwaukee Avenue (Playa 94) | *3,261 | Lubbock County (Uninc. Areas), City of Lubbock.
Near intersection of 98th Street and Alcove Avenue (Playa 133) | *3,301 |
Playa Lake 13 & 15:
Near intersection of Slaton Road and Martin L. King Boulevard | *3,166 | City of Lubbock.
Near intersection of Slaton Road and Martin L. King Boulevard | *3,171 |
Playa Lake 89:
Near intersection of 93rd Street and Memphis Avenue | *3,219 | City of Lubbock.
Ransom Canyon Lake:
Near Lake Shore Drive | *2,957 | Lubbock County (Uninc. Areas), Village of Lake Ransom Canyon, Village of Buffalo Springs.
Slaton Playa System:
Near intersection of Division Street and New Mexico Street (Twin Lakes Playa) | *3,072 | City of Slaton.
Near intersection of Dawson Street and Fisher Street (Compress Lake Playa) | *3,081 |
Woodrow Playa System:
Near intersection of University Avenue and Woodrow Road | *3,194 | Lubbock County (Uninc. Areas).
Yellowhouse Draw:
At confluence with North Fork Double Mountain Fork of the Brazos River | *3,157 | City of Lubbock.
Just upstream of Atchison, Topeka and Santa Fe Railway | *3,173
Just upstream of University Avenue | *3,192
Approximately 5,500 feet upstream of Loop 289 North Service Road | *3,200
ADDRESSES
Lubbock County (Unincorporated Areas)
Maps are available for inspection at the Lubbock County Courthouse, 904 Broadway Street, Lubbock, Texas.
Village of Buffalo Springs:
Maps are available for inspection at City Hall, #2 Marina Point, Pony Express Drive, Buffalo Springs, Texas.
Village of Lake Ransom Canyon:
Maps are available for inspection at City Hall, 24 Lee Kitchens Drive, Ransom Canyon, Texas.
City of Lubbock:
Maps are available for inspection at City Hall, 1625 13th Street, Lubbock, Texas.
City of Slaton:
Maps are available for inspection at City Hall, 130 9th Street, Slaton, Texas.
Town of Wolfforth:
Maps are available for inspection at City Hall, 328 East Highway 64/82, Wolfforth, Texas.
Tarrant County and Incorporated Areas, (FEMA Docket No. B-7306)
Stream SB-1:
At confluence with Sulpher Branch | *520 | Tarrant County (Uninc. Areas), City of Fort Worth, City of Arlington, City of Bedford, City of Benbrook, City of Euless, City of Halton City, City of Hurst, City of River Oaks, and Village of Westworth Village.
At Parkwood Drive | *603
Sulpher Branch:
At confluence with Walker Branch | *480
Approximately 1,500 feet upstream of Spring Lake Drive | *606
Clear Fork Trinity River:
At its confluence with the West Fork Trinity River | *536
Just downstream from the Benbrook Lake Dam | *631
West Fork Trinity River:
Approximately 16,000 feet downstream from the Union Pacific Railroad | *455
Approximately 11,000 feet downstream from the Lake Worth Dam | *569
At the Lake Worth Dam | *600
ADDRESSES
Tarrant County (Unincorporated Areas)
Maps are available for inspection at the Engineering Department, 100 East Weatherford, Fort Worth, Texas.
City of Arlington:
Maps are available for inspection at City Hall, 101 West Abram, Arlington, Texas.
City of Bedford:
Maps are available for inspection at the Service Center, 1813 Reliance Parkway, Bedford, Texas.
City of Benbrook:
Maps are available for inspection at City Hall, 911 Winscott Road, Benbrook, Texas.
City of Euless:
Maps are available for inspection at the Engineering Department, City Hall, Building C, 201 North Ector Drive, Euless, Texas.
City of Fort Worth:
Maps are available for inspection at the Engineering Department, 1000 Throckmorton, Fort Worth, Texas.
City of Halton City:
Maps are available for inspection at City Hall, 5024 Broadway Avenue, Haltom City, Texas.
City of Hurst:
Maps are available for inspection at the Hurst Municipal Complex, 1505 Precinct Line Road, Hurst, Texas.
City of River Oaks:
Maps are available for inspection at River Oaks City Hall, 4900 River Oaks Boulevard, Fort Worth, Texas.
Village of Westworth Village:
Maps are available for inspection at Westworth Village Hall, 311 Burton Hill Road, Forth Worth, Texas.
UTAH
Salt Lake County and Incorporated Areas (FEMA Docket No. B-7420)
Willow Creek (West):
Just upstream of 11400 South Street | *4,362 | City of Draper.
Approximately 100 feet upstream of 1300 South Street | *4,409
Approximately 1,250 feet upstream of 150 East Road | *4,322
Midas Creek:
At confluence with Jordan River | *4,322 | Salt Lake County (Uninc. Areas),
Approximately 250 feet upstream of 3600 West Street | *4,603 | City of Riverton, City of South Jordon.
ADDRESSES
Salt Lake County (Unincorporated Areas)
Maps are available for inspection at Salt Lake County Recorders Office, 2001 South State Street, Suite N-1600, Salt Lake City, Utah.
City of Draper:
Maps are available for inspection at City Hall, Engineering Department, 900 East 12441 South Street, Draper, Utah.
City of Riverton:
Maps are available for inspection at City Hall, 949 East 12400 South Street, Riverton, Utah.
City of South Jordan:
Maps are available for inspection at City Hall, 11175 South Redwood Road, South Jordan, Utah.

(Catalog of Federal Domestic Assistance No. 83.100, “Flood Insurance”)

Dated: September 30, 2002.
Anthony S. Lowe,
Administrator, Federal Insurance and Mitigation Administration.

[FR Doc. 02-26219 Filed 10-15-02; 8:45 am]

BILLING CODE 6718-04-P